DEPARTMENT OF HEALTH AND HUMAN SERVICES

Centers for Disease Control and Prevention

Advisory Council for the Elimination of Tuberculosis (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis (ACET). This meeting is open to the public and limited to 1,000 audio and web conference lines. Members of the public are welcome to listen to the meeting by accessing the telephone number and web access provided in the addresses section below. Time will be available for public comment (registration required to provide oral comment).

DATES: The meeting will be held on December 13, 2022, from 10:00 a.m. to 5:00 p.m., EST, and December 14, 2022, from 10:00 a.m. to 12:00 p.m., EST. Written comments must be submitted by November 29, 2022. Registration to make oral comments must also be submitted by November 29, 2022.

ADDRESSES: The telephone access number is 1-669-254-5252, Webinar ID: 161 095 9944, and the Passcode is 42236876. The web conference access is https://cdc.zoomgov.com/j/1610959944?pwd=eGhxZFNaeFJscGo2eTVwZ0ZOZ3d4QT09, and the Passcode is E=7@trcA. The number of available audio and web conference lines is 1,000.

FOR FURTHER INFORMATION CONTACT: Marah Condit, MS, Committee Management Lead, National Center for HIV, Viral Hepatitis, STD, and TB Prevention, CDC, 1600 Clifton Road NE, Mailstop US8-6, Atlanta, Georgia 30329-4027; Telephone: (404) 639-3423; Email: nchhstppolicy@cdc.gov.

SUPPLEMENTARY INFORMATION:

Purpose: The Council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

Matters To Be Considered: The agenda will include discussions on (1) electronic data systems for overseas medical evaluations; (2) TB commercial diagnostics; (3) TB screening in the Uniting for Ukraine response; (4) CDC electronic directly observed therapy recommendations; and (5) the TB Elimination Alliance. Agenda items are subject to change as priorities dictate.

Public Participation

Written Public Comment: Members of the public are welcome to submit written comments in advance of the meeting. Written comments must be submitted by emailing nchhstppolicy@cdc.gov with subject line “December 2022 ACET Public Comment Registration” by November 29, 2022.

Oral Public Comment: Individuals who would like to make an oral comment during the public comment period must register by emailing nchhstppolicy@cdc.gov with subject line “December 2022 ACET Public Comment Registration” by November 29, 2022. The public comment period is on December 13, 2022, at 4:45 p.m., EST.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-23641 Filed 10-28-22; 8:45 am]

BILLING CODE 4163-18-P